SOCIAL SECURITY ADMINISTRATION

Rescission of Social Security Acquiescence Ruling 00-3(10)

AGENCY: Social Security Administration.

ACTION: Notice of rescission of Social Security Acquiescence Ruling 00-3(10)—Haddock v. Apfel, 196 F.3d 1084 (10th Cir. 1999).

SUMMARY: In accordance with 20 CFR 402.35(b)(2), 404.985(e) and 416.1485(e) the Commissioner of Social Security gives notice of the rescission of Social Security Acquiescence Ruling 00-3(10).

EFFECTIVE DATE: December 4, 2000.

FOR FURTHER INFORMATION CONTACT: Cassia W. Parson, Litigation Staff, Social Security Administration, 6401 Security Boulevard, Baltimore, MD 21235, (410) 965-1695.

SUPPLEMENTARY INFORMATION: A Social Security Acquiescence Ruling explains how we will apply a holding in a decision of a United States Court of Appeals that we determine conflicts with our interpretation of a provision of the Social Security Act or regulations when the Government has decided not to seek further review of the case or is unsuccessful on further review.

As provided by 20 CFR 404.985(e)(4) and 416.1485(e)(4), a Social Security Acquiescence Ruling may be rescinded as obsolete if we subsequently clarify, modify or revoke the regulation or ruling that was the subject of the circuit court holding for which the Acquiescence Ruling was issued.

On June 20, 2000, we issued Acquiescence Ruling 00-3(10) (65 FR 38312) to reflect the holding in Haddock v. Apfel, 196 F.3d 1084 (10th Cir. 1999). This circuit court holding interpreted 20 CFR 404.1566 and 416.966 to require that, before an Administrative Law Judge (ALJ) may rely on evidence from a Vocational Expert (VE) to support a determination of nondisability at step five of the sequential evaluation process, he or she must ask the expert how the testimony or information corresponds to the information provided in the Dictionary of Occupational Titles (DOT) ¹ and elicit a reasonable explanation for any conflict.

¹ Employment and Training Administration, U.S. Department of Labor, Dictionary of Occupational Titles (Fourth Edition, Revised 1991) and its companion publication, Selected Characteristics of Occupations Defined in the Revised Dictionary of Occupational Titles, (1993).

We are publishing this notice of rescission of the Acquiescence Ruling concurrently with our publication of Social Security Ruling (SSR) 00-4p clarifying 20 CFR 404.1566 and 416.966. The SSR clarifies our rules on identifying and resolving conflicts or apparent conflicts between the testimony of the VE or a Vocational Specialist (VS) and the information contained in the DOT. The SSR explains that when a VE or VS provides evidence about the requirements of a job or occupation, the adjudicator has an affirmative responsibility to ask about any possible conflict between that VE or VS evidence and the information provided in the DOT. The SSR also provides that, before relying on VE or VS evidence to support a disability determination or decision, the adjudicator must obtain a reasonable explanation for any such conflict.

Because the SSR clarifies the provision of our rules upon which the holding in Haddock is based and our standards for identifying and resolving conflicts between occupational evidence provided by a VE and the information in the DOT, we are rescinding Acquiescence Ruling 00-3(10). By clarifying our regulations and rescinding this Acquiescence Ruling, we are restoring uniformity to our nationwide system of rules in accordance with our commitment to the goal of administering our programs through uniform national standards as discussed in the preamble to the 1998 acquiescence regulations, 63 FR 24927 (May 6, 1998).

(Catalog of Federal Domestic Assistance Program Nos. 96.001 Social Security—Disability Insurance; 96.002 Social Security—Retirement Insurance; 96.004 Social Security—Survivors Insurance; 96.005 Special Benefits for Disabled Coal Miners; 96.006 Supplemental Security Income)
Dated: October 27, 2000.
Kenneth S. Apfel,
Commissioner of Social Security.

[FR Doc. 00-30700 Filed 12-1-00; 8:45 am]

BILLING CODE 4191-02-U